DEPARTMENT OF JUSTICE

Bureau of Alcohol, Tobacco, Firearms, and Explosives

[Docket No. ATF 2015R-15]

Electronic Collection and Transfer of Import Information: Cessation of PGA Message Set Pilot Program

AGENCY: Bureau of Alcohol, Tobacco, Firearms and Explosives, Department of Justice.

ACTION: Notice.

SUMMARY: The Bureau of Alcohol, Tobacco, Firearms and Explosives (ATF) announces cessation of the pilot program that tested the transfer of data between the Participating Government Agency (PGA) Message Set in the Automated Commercial Environment (ACE) and ATF's Web-based data analytics system. ACE is the Web-based portal for the collection and use of international trade data maintained by U.S. Customs and Border Protection (CBP). The PGA Message Set is the data related to merchandise regulated by an agency, such as ATF, that CBP will receive electronically from importers for its use as well as for the PGA's use. The data enables ATF to determine the actual items imported. Although this notice announces the cessation of the pilot program, the mandatory filing date for filing entries in ACE has yet to be determined.

DATES: This notice is effective on August 31, 2016.

FOR FURTHER INFORMATION CONTACT: William E. Majors, Chief, Firearms and Explosives Imports Branch, Firearms and Explosives Services Division, Enforcement Programs and Services; Bureau of Alcohol, Tobacco, Firearms and Explosives; U.S. Department of Justice; 244 Needy Road, Martinsburg, WV 25401; telephone (304) 616-4589, fax: (304) 616-4551, or email: William.Majors@atf.gov.

SUPPLEMENTARY INFORMATION: ATF participated in a voluntary CBP pilot program of the International Trade Data System (ITDS) involving the use of the PGA Message Set in ACE. See 80 FR 45548 (July 30, 2015). The pilot allowed importers to submit required data to CBP through ACE for the purposes of obtaining CBP release and receipt. CBP validated that information electronically, and electronically transmitted entry and release information to ATF for purposes of satisfying certification requirements. The pilot program confirmed the efficiency and effectiveness of digitizing traditional, manual paperwork. While the pilot has been suspended, the mandatory filing date for filing entries in ACE has yet to be determined.

Importers should be aware that no changes have been made to the requirement that importers submit their copy of the Form 6A (with Sections I and III completed) to ATF within 15 days of release from CBP custody.

Thomas E. Brandon,
ATF Deputy Director.

[FR Doc. 2016-20939 Filed 8-30-16; 8:45 am]

BILLING CODE 4410-FY-P